DEPARTMENT OF DEFENSE

Office of the Secretary

National Security Education Board; Notice of Federal Advisory Committee Meeting

AGENCY: Under Secretary of Defense for Personnel and Readiness, National Security Education Board, Department of Defense.

ACTION: Notice of Federal Advisory Committee Meeting.

SUMMARY: The Department of Defense (DoD) is publishing this notice to announce that the following Federal Advisory Committee meeting of the National Security Education Board will take place.

DATES: Open to the public Monday, June 4, 2018 from 10:00 a.m. to 4:15 p.m.

ADDRESSES: The address of the open meeting is the JW Marriott Washington, DC at 1331 Pennsylvania Avenue NW, Washington, DC 20004.

FOR FURTHER INFORMATION CONTACT: Michael Nugent, (571) 256-0702 (Voice), (703) 692-2615 (Facsimile), michael.a.nugent22.civ@mail.mil (Email). Mailing address is National Security Education Program 4800 Mark Center Drive, Suite 08F09-02 Alexandria, VA 22350-7000. Website: https://www.nsep.gov/content/national-security-education-board. The most up-to-date changes to the meeting agenda can be found on the website.

SUPPLEMENTARY INFORMATION: Due to circumstances beyond the control of the Department of Defense (DoD) and the Designated Federal Officer, the National Security Education Board was unable to provide public notification required by 41 CFR 102-3.150(a) concerning the meeting on June 4, 2018, of the National Security Education Board. Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: Purpose of the meeting, in compliance with the David L. Boren National Security Education Act of 1991, 50 U.S.C. 1901, is to discuss National Security Education Program updates and recommendations.

Agenda: 10:00 a.m.: National Security Education Board (NSEB) Full Meeting Begins Dr. Michael Nugent, Director, Defense Language and National Security Education Office (DLNSEO) and Director, National Security Education Program (NSEP) Ms. Veronica Daigle, Performing the Duties of the Assistant Secretary of Defense (Readiness) and Chair NSEB Mr. Fred Drummond, Deputy Assistant Secretary Of Defense (Force Education & Training) and DoD Senior Language Authority 10:30 a.m.: Updates to the Board and Discussion Dr. Michael Nugent, Director DLNSEO/Director NSEP 11:00 a.m.: Class of 2018 Boren Scholars and Fellows Ms. Alison Patz, Associate Director of Outreach and Service, NSEP Ms. Chelsea Sypher, Head of NSEP Programs, Institute of International Education 11:30 a.m.: National Engagement: State Roadmap Partnerships Mr. Howard Stephenson, State Senator, State of Utah Mr. Bob Behning, State Representative, State of Indiana Dr. Dianna Murphy, Associate Director, University of Wisconsin, Madison Dr. Winnie Brownell, Dean Emerita, University of Rhode Island 12:30 p.m.: Working Lunch with Boren Scholars and Fellows 1:30 p.m.: Critical Skills Initiatives: Internships, Clearances, National Language Service Corps Dr. Michael Nugent Mr. Jim Seacord, Acting Director Human Capital Management Office, Office of the Under Secretary of Defense (Intelligence) 2:30 p.m.: Board Working Group Overview and Key Takeaways Dr. Esther Brimmer, Executive Director and CEO, NAFSA: Association of International Educators 3:30 p.m.: Board Discussion 4:15 p.m.: Adjourn Meeting Accessibility: Pursuant to 5 U.S.C. 552b and 41 CFR 102-3.140 through 102-3.165, and the availability of space, this meeting is open to the public. Seating is on a first-come basis.

Written Statements: Pursuant to 102-3.140 and sections 10(a)(3) of the Federal Advisory Committee Act of 1972, the public or interested organizations may submit written statements to the Department of Defense National Security Education Board about its mission and functions. Written statements may be submitted at any time or in response to the stated agenda of the planned meeting. All written statements shall be submitted to the Designated Federal Official for the National Security Education Board, and this individual will ensure that the written statements are provided to the membership for their consideration. Contact information for the Designated Federal Official can be obtained from the GSA's FACA Database— http://facadatabase.gov/.

Dated: May 22, 2018.
Shelly E. Finke,
Alternate OSD Federal Register Liaison Officer, Department of Defense.

[FR Doc. 2018-11286 Filed 5-24-18; 8:45 am]

BILLING CODE 5001-06-P